SOCIAL SECURITY ADMINISTRATION

20 CFR Part 404

[Docket No. SSA-2008-0047]

RIN 0960-AG62

Payments to Beneficiaries Residing in Vietnam and Cambodia and Other Conforming Changes

AGENCY: Social Security Administration.

ACTION: Final rule.

SUMMARY: We are revising our regulation to remove Vietnam and Democratic Kampuchea (now Cambodia) from the list of countries to which social security benefits may not be sent under restrictions imposed by the Department of the Treasury (Treasury). This revision reflects published Treasury regulations that removed the restrictions on sending Federal payments to beneficiaries living in those countries. In addition, we are updating the citation for Treasury's authority to restrict payments to beneficiaries living in certain countries and correcting a typographical error in one of the section headings.

DATES: This regulation is effective September 25, 2009.

FOR FURTHER INFORMATION CONTACT: Rebecca Tothero, Social Insurance Specialist, Office of International Programs, 3700 Operations, Social Security Administration, 6401 Security Boulevard, Baltimore, Maryland 21235-6401, (410) 966-6975.

For information on eligibility or filing for benefits, call our national toll-free number, 1-800-772-1213 or visit our Internet Web site, SSA Online, at http://www.ssa.gov.

SUPPLEMENTARY INFORMATION:

Electronic Version

The electronic file of this document is available on the date of publication in the Federal Register at http://www.gpoaccess.gov/fr/index.html.

Background

We cannot pay monthly title II benefits to any beneficiary for any month in which he or she resides in a country to which Treasury prohibits sending benefit checks. 31 U.S.C. 3329. Those countries are identified in the Treasury regulation which imposes the payment restriction as well as in a corresponding regulation promulgated by the Social Security Administration. 31 CFR 211.1 and 20 CFR 404.460(c)(3). On August 12, 1996, Treasury published a final rule permitting delivery of Treasury checks to beneficiaries living in Vietnam. 61 FR 41739. Treasury published a similar final rule on December 10, 2001, permitting delivery of Treasury checks to beneficiaries living in Cambodia. 66 FR 63623.

Since the enactment of those rules, we have provided payment to beneficiaries living in Vietnam and Cambodia. However, our regulations were not updated to reflect the changes in Treasury's rules. We are removing Vietnam and Democratic Kampuchea from the list of countries subject to alien payment restrictions consistent with the change in policy implemented by Treasury. 20 CFR 404.460(c)(3).

In addition, our current regulation contains an outdated citation for Treasury's statutory authority to withhold payments to beneficiaries living in certain countries. We are revising § 404.460(b)(2)(ii), (c)(1), and (c)(2), to refer to the appropriate statute. Additionally, we are correcting a typographical error in the heading of § 404.460.

Regulatory Procedures

We follow the Administrative Procedure Act (APA) rulemaking procedures specified in 5 U.S.C. 553 in the development of our regulations. The Social Security Act, 702(a)(5); 42 U.S.C. 902(a)(5). Generally, the APA requires that an agency provide prior notice and opportunity for public comment before issuing a final regulation. The APA provides exceptions to the notice and comment requirements when an agency finds there is good cause for dispensing with such procedures because they are impracticable, unnecessary, or contrary to the public interest.

We are issuing this revised regulation as a final rule. We have determined that good cause exists for dispensing with the notice and public comment procedures. See 5 U.S.C. 553(b)(B). The revised regulation merely expands the list of countries to which we can send benefits checks, consistent with current Treasury regulations. We are not exercising any discretion. Further delay in revising our regulation could mislead the public and is, therefore, contrary to the public interest.

In addition, for the reasons cited above, we also find good cause for dispensing with the 30-day delay in the effective date of this final rule. 5 U.S.C. 553(d)(3). As the superseding Treasury rule change is already in effect, it is contrary to the public interest to delay the effective date of our conforming rule change. We therefore find it is in the public interest to make this change effective with the publication date of this final rule.

Executive Order 12866

The Office of Management and Budget (OMB) has reviewed this final rule in accordance with Executive Order 12866. We have also determined that this final rule meets the plain language requirements of the Executive Order.

Regulatory Flexibility Act

We certify that this regulation will not have a significant economic impact on a substantial number of small entities as it affects only individuals. Therefore, a regulatory flexibility analysis as provided in the Regulatory Flexibility Act, as amended, is not required.

Paperwork Reduction Act

This final regulation imposes no reporting or recordkeeping requirements requiring OMB clearance.

(Catalog of Federal Domestic Assistance Program Nos. 96.001, Social Security—Disability Insurance; 96.002, Social Security—Retirement Insurance; 96.004, Social Security —Survivors Insurance)

List of Subjects in 20 CFR Part 404

Administrative practice and procedure, Blind, Disability benefits, Old-Age, Survivors and Disability Insurance, Reporting and recordkeeping requirements, Social Security.

Dated: July 30, 2009.
Michael J. Astrue,
Commissioner of Social Security.

For the reasons set forth in the preamble, we are amending subpart E of part 404 of Title 20 of the Code of Federal Regulations as follows:

PART 404—FEDERAL OLD-AGE, SURVIVORS AND DISABILITY INSURANCE (1950- )

Subpart E—[Amended]

1. The authority citation for subpart E of part 404 continues to read as follows:

Authority: Secs. 202, 203, 204(a) and (e), 205(a) and (c), 216(l), 222(c), 223(e), 224, 225, 702(a)(5) and 1129A of the Social Security Act (42 U.S.C. 402, 403, 404(a) and (e), 405(a) and (c), 416(l), 422(c), 423(e), 424a, 425, 902(a)(5), and 1320a-8a and 48 U.S.C. 1801.

2. In § 404.460, revise the section heading and paragraphs (b)(2)(ii), (c)(1), (c)(2) introductory text, and (c)(3) to read as follows:

§ 404.460 Nonpayment of monthly benefits to aliens outside the United States.

* * * * *

(b) * * *

(2) * * *

(ii) Except that, effective with July 1968, § 404.460(b)(2)(i) does not apply if:

(A) The beneficiary is a citizen of a country with a social insurance or pension system meeting the conditions described in paragraphs (b)(7)(i), (ii), and (iii) of this section but does not meet the condition described in paragraph (b)(7)(iv) of this section; or

(B) The beneficiary is a citizen of a country with no social insurance or pension system of general application and at any time within 5 years before January 1968 (or the first month after December 1967 in which benefits are subject to suspension pursuant to paragraph (a) of this section) such beneficiary was residing in a country to which payments were withheld by the Treasury Department pursuant to Vol. II, 31 U.S.C. 3329. See § 404.460(c).

* * * * *

(c) Nonpayment of monthly benefits to aliens residing in certain countries—(1) Benefits for months after June 1968. Notwithstanding the provisions of paragraphs (a) and (b) of this section, we cannot pay monthly benefits for any month after June 1968 to anyone not a citizen or national of the United States for any month while residing in a country to which payments are being withheld by the Treasury Department pursuant to Vol. II, 31 U.S.C. 3329.

(2) Benefits for months before July 1968. If a person who is not a United States citizen or national is entitled to receive benefits under title II of the Social Security Act, and was residing in a country where the Treasury Department withheld benefits on June 30, 1968 pursuant to Vol. II, 31 U.S.C. 3329, benefits cannot be paid. However, if the Treasury Department subsequently removes that restriction, a person who is not a United States citizen or national may be able to be paid benefits to which they were entitled for months prior to July 1968. Benefits cannot be paid,—

* * * * *

(3) List of countries under Treasury Department alien payment restriction. The Treasury Department is currently withholding payments to persons residing in the following countries pursuant to Vol. II, 31 U.S.C. 3329. We will publish future additions to or deletions from the list of countries in the Federal Register: Cuba, North Korea.

* * * * *

[FR Doc. E9-22883 Filed 9-24-09; 8:45 am]

BILLING CODE 4191-02-P